Title 3—

The President

Memorandum of April 20, 2010

Delegation of Certain Functions Under Section 1265 of the National Defense Authorization Act for Fiscal Year 2010

Memorandum for the Secretary of State

By the authority vested in me as President by the Constitution and the laws of the United States, including section 301 of title 3, United States Code, I hereby delegate to you the functions and authority conferred upon the President by section 1265 of the National Defense Authorization Act for Fiscal Year 2010, Public Law 111-84, to make the specified report to the Congress.

You are authorized and directed to notify the appropriate congressional committees and publish this memorandum in the Federal Register.

THE WHITE HOUSE,

Washington, April 20, 2010

[FR Doc. 2010-10037

Filed 4-27-10; 8:45 am]

Billing code 4710-10-P